DEPARTMENT OF AGRICULTURE

Forest Service

Lake Tahoe Basin Federal Advisory Committee

AGENCY: Office of the Secretary, USDA.

ACTION: Notice of intent to renew the Lake Tahoe Basin Federal Advisory Committee charter and request for nominations.

SUMMARY: The Secretary of Agriculture is considering the renewal of the charter of the Lake Tahoe Basin Federal Advisory Committee, chartered under the Federal Advisory Committee Act, to provide advice to the Secretary of Agriculture on implementing the terms of the Federal Interagency Partnership on the Lake Tahoe Region. Nominations of persons to serve on the LTFAC are invited.

DATES: Nominations for membership on the Committee must be received in writing by March 24, 2006.

ADDRESSES: Send nominations and applications (Form AD-755) with telephone numbers and e-mail addresses for membership on the Committee to: FACA Nomination, Lake Tahoe Basin Management Unit, 35 College Drive, South Lake Tahoe, California 96150.

FOR FURTHER INFORMATION CONTACT: Terri Marceron, Forest Supervisor, or Mark Struble, Acting Legislative & Public Affairs Officer, Lake Tahoe Basin Management Unit, telephone (530) 543-2758.

SUPPLEMENTARY INFORMATION: Pursuant to the Federal Advisory Committee Act (5 U.S.C. App.), notice is hereby given that the Secretary of Agriculture is considering the renewal of the charter of the Lake Tahoe Basin Federal Advisory Committee. The purpose of the Committee is to provide advice to the Secretary of Agriculture and to the Federal Interagency Partnership (Partnership) on how the Partnership can best fulfill its duties pursuant to Executive Order 13057, issued July 26, 1997; how to facilitate the integration and coordination of appropriate Federal programs and funds to help achieve the goals of the Lake Tahoe Regional Environmental Improvement Program; and other matters raised by the Secretary.

The Secretary of Agriculture established the Lake Tahoe Basin Federal Advisory Committee (Committee) on July 13, 1998; renewed the Committee's charter on June 19, 2000; amended the charter on April 17, 2001, to provide advice to the Partnership; and renewed the charter on June 13, 2002 and June 3, 2004. The current charter for the Lake Tahoe Basin Federal Advisory Committee will expire June 7, 2006, and is currently being considered for renewal by the Secretary of Agriculture.

The Secretary has previously determined that the work of the Committee is in the public interest and relevant to the duties of the Department of Agriculture.

Representatives will be selected from the following sectors: (1) Gaming, (2) environmental, (3) national environmental, (4) ski resorts, (5) North Shore economic/recreation, (6) South Shore economic/recreation, (7) resort associations, (8) education, (9) property rights advocates, (10) member-at-large, (11) member-at-large, (12) science and research, (13) California local government, (14) Washoe Tribe, (15) State of California, (16) State of Nevada, (17) Tahoe Regional Planning Agency, (18) labor, (19) transportation and (20) Nevada local government.

Nominations to the Committee should describe and document the proposed member's qualifications for membership on the Lake Tahoe Basin Federal Advisory Committee. The Committee Chair will be approved by the Designated Federal Official. Vacancies on the Committee will be filled in the manner in which the original appointment was made.

Members of the Committee serve without pay, but may be reimbursed for travel expenses. Committee members serve a two year term and will meet as often as is necessary to complete its business, but no less than four times a year.

Appointments to the Committee will be made by the Secretary of Agriculture. Equal opportunity practices, in line with USDA policies, will be followed in all appointments to the Committee. To ensure that the recommendations of the Committee have taken into account the needs of the diverse groups served by the Department, membership should include to the extent practicable individuals with demonstrated ability to represent minorities, women, persons with disabilities, and senior citizens.

Dated: January 27, 2006.
Terri Marceron,
Forest Supervisor.

[FR Doc. 06-999 Filed 2-2-06; 8:45 am]

BILLING CODE 3410-11-M